FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

ITS International Container Lines Inc., 99 W. Hawthornie Ave., Suite 216, Valley Stream, NY 11580, Officers: Philip Lam, President (Qualifying Individual), Joseph Lam, Vice President.

Dynasty Freight Consolidator Inc., 100 North Hill Drive, #50, Brisbane, CA 94005, Officer: Hung Cheung Ng, President (Qualifying Individual).

Non-Vessel Operating Common Carrier and Ocean Freight Forwarder Transportation Intermediary Applicants:

TGAX Logistics (USA) LLC, 182-16 149th Rd., Rm. 238, Springfield Garden, NY 11413, Officers: Bosco L. Man, Vice President (Qualifying Individual), Robert Mooney, President.

Boom U.S.A., Inc. dba B.G. Logistics, 2227 NW 79th Avenue, Miami, FL 33122, Officers: Julian Scattolini, Director (Qualifying Individual), Andres Nunez Sorensen, President.

Ocean Freight Forwarder—Ocean Transportation Intermediary Applicants:

LCL Cargo Services, Inc., 8501 NW 17th Street, Miami, FL 33126, Officer: Ron Sonbeek, President (Qualifying Individual).

Inlogix Corp. dba Inlogix, Lot 6 Monterrey Avenue, Geoconsult Bldg., San Juan PR 00920, Officers: Lemuel Toledo Gonzalez, General Manager (Qualifying Individual), Pedro Toledo, Vice President.

Dated: March 28, 2003.
Theodore A. Zook,
Assistant Secretary.

[FR Doc. 03-7959 Filed 4-1-03; 8:45 am]

BILLING CODE 6730-01-P